DEPARTMENT OF COMMERCE

International Trade Administration

[A-549-821]

Polyethylene Retail Carrier Bags From Thailand: Final Results of Antidumping Duty Administrative Review

AGENCY: Import Administration, International Trade Administration, Department of Commerce.

SUMMARY: On May 24, 2011, the Department of Commerce published the preliminary results of the 2009/2010 administrative review of the antidumping duty order on polyethylene retail carrier bags from Thailand. We gave interested parties an opportunity to comment on the preliminary results. Based on our analysis of the comments received and an examination of our calculations, we have made certain changes for the final results. The final weighted-average dumping margins for the respondents are listed below in the “Final Results of Review” section of this notice.

DATES: Effective Date: September 28, 2011.

FOR FURTHER INFORMATION CONTACT: Bryan Hansen or Dustin Ross, AD/CVD Operations, Office 5, Import Administration, International Trade Administration, U.S. Department of Commerce, 14th Street and Constitution Avenue, NW., Washington, DC 20230; telephone (202) 482-3683 or (202) 482-0747, respectively.

SUPPLEMENTARY INFORMATION:

Background

On May 24, 2011, the Department of Commerce (the Department) published Polyethylene Retail Carrier Bags From Thailand: Preliminary Results of Antidumping Duty Administrative Review, 76 FR 30102 (May 24, 2011) (Preliminary Results), in the Federal Register. The administrative review covers 11 companies. The period of review is August 1, 2009, through July 31, 2010.

We invited parties to comment on the Preliminary Results. On June 23, 2011, we received case briefs from the Polyethylene Retail Carrier Bag Committee and its individual members, Hilex Poly Co., LLC, and Superbag Corporation (collectively, the petitioners), and the respondents, Thai Plastic Bags Industries Co., Ltd. (TPBI), and Landblue (Thailand) Co., Ltd. (Landblue). We also received case briefs from Inteplast Group Ltd. and Master Packaging Inc. which qualify as interested parties as importers of subject merchandise. On June 28, 2011, we received rebuttal briefs from the interested parties. We did not hold a hearing as the only request for a hearing was withdrawn. See the petitioners' letter dated June 29, 2011.

We have conducted this review in accordance with section 751(a) of the Tariff Act of 1930, as amended (the Act).

Scope of the Order

The merchandise subject to the antidumping duty order is polyethylene retail carrier bags (PRCBs) which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scope of the order excludes (1) Polyethylene bags that are not printed with logos or store names and that are closeable with drawstrings made of polyethylene film and (2) polyethylene bags that are packed in consumer packaging with printing that refers to specific end-uses other than packaging and carrying merchandise from retail establishments, e.g., garbage bags, lawn bags, trash-can liners.

Imports of the subject merchandise are currently classifiable under statistical category 3923.21.0085 of the Harmonized Tariff Schedule of the United States (HTSUS). Furthermore, although the HTSUS subheading is provided for convenience and customs purposes, the written description of the scope of the order is dispositive.

Analysis of Comments Received

All issues raised in the case briefs by parties to this review are addressed in the Issues and Decision Memorandum for the Antidumping Duty Administrative Review of Polyethylene Retail Carrier Bags from Thailand for the Period of Review August 1, 2009, through July 31, 2010 (Decision Memo), which is dated concurrently with this notice and hereby adopted by this notice. A list of the issues which parties have raised and to which we have responded is in the Decision Memo and attached to this notice as an Appendix. The Decision Memo, which is a public document, is on file in the Department's Central Records Unit of the main Commerce building, Room 7046, and is accessible on the Web at http://ia.ita.doc.gov/frn/index.html. The paper copy and electronic version of the Decision Memo are identical in content.

Non-Selected Companies

As discussed in the Preliminary Results, 76 FR at 30103-30104, we preliminarily determined to apply the weighted-average margin we calculated using the public ranged U.S. sales values Landblue and TPBI submitted for the record of this review and their weighted-average margins to the firms not examined individually in this review. We received no comments on the use of this rate. Therefore, for these final results of review, we have applied the rate we have calculated using the weighted-average margins of Landblue and TPBI as applied to the public ranged U.S. sales values they submitted to the companies which were not selected for individual examination.

Changes Since the Preliminary Results

For our calculation of TPBI's margin for the final results, we revised the general and administrative and financial expenses of TPBI to reflect data in its 2010 financial statements. See the memoranda to the file entitled “Polyethylene Retail Carrier Bags from Thailand—Thai Plastic Bags Industries Co., Ltd. (TPBI), Final Results Analysis Memorandum” dated September 21, 2011, and “Cost of Production and Constructed Value Calculation Adjustments for the Final Results—Thai Plastic Bags Industries Co. (TPBI), Ltd.” dated September 21, 2011, for details regarding these changes.

For our calculation of Landblue's margin for the final results, we made the following changes: (1) We adjusted Landblue's general and administrative (G&A) expense ratio to include in the numerator the unreconciled difference between the administrative expenses from the 2010 financial statements and those reflected in the 2010 trial balance, (2) we revised Landblue's G&A ratio to reflect the cost of goods sold from the 2010 financial statements, (3) we set Landblue's negative interest expense ratio to zero, (4) for constructed value (CV) selling expenses we used publicly available total selling expenses from a company not currently under review, Thantawan Industry Public Company Limited (Thantawan), adjusted to reflect Landblue's ratio of indirect expenses to total selling expenses, (5) we used data from the record of Thantawan's 2010 financial statements to calculate a revised ratio for CV profit which reflects Landblue's profit as a percentage of total costs for bag products only, and (6) we included management-benefits expenses from Thantawan's 2010 financial statements in the denominator of the revised ratio for CV profit for Landblue. See the memoranda to the file entitled “Polyethylene Retail Carrier Bags from Thailand—Landblue (Thailand) Co., Ltd., Final Results Analysis Memorandum” dated September 21, 2011, and “Constructed Value Calculation Adjustments for the Final Results—Landblue Thailand Co., Ltd.” dated September 21, 2011, for details regarding these changes.

We have corrected the spelling of the company name for “Hi-Pak Company Limited” which in the Initiation Notice and Preliminary Results reflected the spelling provided by the petitioners in their request for review. We based the correction on the spelling Hi-Pak Company Limited provided in its statement of no shipments during the period of review.

Sales Below Cost in the Home Market

As explained in the Preliminary Results, 76 FR at 30104, in accordance with section 773(b) of the Act, the Department tested whether TPBI made sales at prices below the cost of production. For these final results of review and based on the statutory criteria concerning below-cost sales, the Department disregarded home-market sales by TPBI that failed the cost-of-production test.

Final Results of Review

As a result of our review, we determine that the following percentage weighted-average dumping margins exist for PRCBs from Thailand for the period August 1, 2009, through July 31, 2010:

Producer/exporter | Margin (percent)
First Pack Co. Ltd | 28.59
Hi-Pak Company Limited | (¹)
ITW Minigrip (Thailand) Co., Ltd | (²)
K International Packaging Co., Ltd | 28.59
Landblue (Thailand) Co., Ltd | 25.53
Praise Home Industry, Co. Ltd | 28.59
Siam Flexible Industries Co., Ltd | 28.59
Thai Jirun Co., Ltd | 28.59
Thai Plastic Bags Industries Co., Ltd | 35.71
Trinity Pac Co. Ltd | 28.59
U. Yong Industry Co., Ltd | 28.59
¹ No shipment or sales subject to this review. This firm has no individual rate from a previous segment of this proceeding.
² No shipment or sales subject to this review. This firm has no individual rate from a previous segment of this proceeding.

Assessment Rates

The Department shall determine and U.S. Customs and Border Protection (CBP) shall assess antidumping duties on all appropriate entries.

We calculated importer/customer-specific duty-assessment amounts with respect to sales by Landblue and TPBI by dividing the total dumping margins (calculated as the difference between normal value and the export price) for each importer or customer by the total number of kilograms Landblue and TPBI sold to that importer or customer. We will direct CBP to assess the resulting per-kilogram dollar amount against each kilogram of merchandise on each of that importer's or customer's entries during the period of review. See 19 CFR 351.212(b)(1).

Because the order on PRCBs from Thailand was revoked in part with respect to TPBI effective July 28, 2010, we will instruct CBP to assess antidumping duties with respect to TPBI on entries made through July 27, 2010. For further information, see Notice of Implementation of Determination Under Section 129 of the Uruguay Round Agreements Act and Partial Revocation of the Antidumping Duty Order on Polyethylene Retail Carrier Bags From Thailand, 75 FR 48940 (August 12, 2010) (Section 129 Determination).

The Department clarified its “automatic assessment” regulation on May 6, 2003. This clarification will apply to entries of subject merchandise during the period of review produced by Landblue, TPBI, Hi-Pak Company Limited, and ITW Minigrip (Thailand) Co., Ltd., for which they did not know that the merchandise they sold to an intermediary (e.g., a reseller, trading company, or exporter) was destined for the United States. In such instances, we will instruct CBP to liquidate unreviewed entries at the all-others rate if there is no rate for the intermediary(ies) involved in the transaction. See Antidumping and Countervailing Duty Proceedings: Assessment of Antidumping Duties, 68 FR 23954 (May 6, 2003).

For the companies which were not selected for individual examination and which did not submit statements of no shipments, we will instruct CBP to apply the rates listed above to all entries of subject merchandise produced and/or exported by such firms.

We intend to issue liquidation instructions to CBP 15 days after publication of these final results of review.

Cash-Deposit Requirements

With the exception of TPBI as a result of the revocation, the following deposit requirements will be effective upon publication of these final results of administrative review for all shipments of the subject merchandise entered, or withdrawn from warehouse, for consumption on or after the date of publication consistent with section 751(a)(1) of the Act: (1) The cash-deposit rates for the companies subject to the review will be the rates shown above; (2) for previously investigated or reviewed companies not listed above, the cash-deposit rate will continue to be the company-specific rate published for the most recent period; (3) if the exporter is not a firm covered in this or a previous review or the original less-than-fair-value (LTFV) investigation but the manufacturer is, the cash-deposit rate will be the rate established for the most recent period for the manufacturer of the merchandise; (4) the cash-deposit rate for all other manufacturers or exporters will be 4.69 percent, the all-others rate from the amended final determination of the LTFV investigation revised as a result of the Section 129 determination published on August 12, 2010. See Section 129 Determination.

These deposit requirements shall remain in effect until further notice.

Notification Requirements

This notice serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results in accordance with sections 751(a)(1) and 777(i) of the Act and 19 CFR 351.221(b)(5).

Dated: September 21, 2011.
Ronald K. Lorentzen,
Deputy Assistant Secretary for Import Administration.

Appendix

1. General and Administrative Expenses.

2. Financial Expense.

3. CV Profit.

4. CV Selling Expenses.

5. Zeroing.

[FR Doc. 2011-24998 Filed 9-27-11; 8:45 am]

BILLING CODE 3510-DS-P